DEPARTMENT OF THE INTERIOR

Bureau of Land Management

[223.LLAK941200.L1440000.ET0000; A-023002]

Public Land Order No. 7907; Extension of Public Land Order No. 6244, as Extended by Public Land Order No. 7514; Davis Range Tract M, Alaska

AGENCY: Bureau of Land Management, Interior.

ACTION: Public Land Order.

SUMMARY: This Public Land Order (PLO) extends the withdrawal created by PLO No. 6244, as extended by PLO No. 7514, which would otherwise expire on May 12, 2022, for an additional 20-year term. PLO No. 6244 withdrew approximately 3,264.32 acres of public land, known as the Davis Range Tract M, from operation of surface land and mining laws, but not mineral leasing, and reserved for use by the Department of the Air Force for cold weather survival and infantry tactical training purposes in Fort Richardson, Alaska. PLO No. 7514 extended PLO No. 6244 for an additional 20-year term. This PLO also corrects the acreage in PLO 6244 and gives effect to the 2005 Base Realignment and Closure (BRAC) recommendation and subsequent creation of Joint Base Elmendorf-Richardson in 2010, with the Department of the Air Force as the supporting agency.

DATES: This PLO takes effect on May 13, 2022.

FOR FURTHER INFORMATION CONTACT: Chelsea Kreiner, Bureau of Land Management Alaska State Office, 222 West Seventh Avenue, Mailstop 13, Anchorage, AK 99513-7504, 907-271-4205, or ckreiner@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose for which the withdrawal was first made requires this extension to continue the military training use of Davis Range Tract M.

Order

By virtue of the authority vested in the Secretary of the Interior by Section 204 of the Federal Land Policy and Management Act of 1976, 43 U.S.C. 1714, it is ordered as follows:

Public Land Order No. 6244, (47 FR 20590 (1982)), as extended by Public Land Order No. 7514 (67 FR 10433 (2002)), which withdrew approximately 3,264.32 acres of public land from settlement, sale, location, entry selection, or other disposal under the public land laws, including the Alaska Native Claims Settlement Act of December 18, 1971, 85 Stat. 688, the Alaska Statehood Act, 72 Stat. 339, and the mining laws, 30 U.S.C. Ch. 2, but not the mineral leasing laws, and reserved it for military use by the Department of the Air Force, subject to valid existing rights, is hereby extended for an additional 20-year period.

The May 13, 1982, Federal Register publication (47 FR 20590) identified 3,340 acres of public lands for the Davis Range Tract M withdrawal. Supplemental plats of survey delineating the boundaries of the lands withdrawn by PLO No. 6244 were officially filed on April 21, 2020. The revised legal description and acreage set forth herein are consistent with the Specifications for Descriptions of Lands (2017) and are used in place of the land description in the application and the original PLO issued in 1982. The Alaska Chief Cadastral Surveyor reviewed the legal description and plats within the withdrawal boundary against all records of survey, and determined the acreage to be 3,264.32, a difference of 75.68 acres from the PLO issued in 1982. For the purpose of this withdrawal extension, the withdrawal boundary remains unchanged, and the total acreage reflects the more accurate calculation of 3,264.32 acres, which are described as:

Seward Meridian, Alaska

T. 12 N., R. 1 W.,

Sec. 6, lots 3 thru 7, SE1/4NW1/4, and E1/2SW1/4;

Sec. 7, lots 1 thru 4, E1/2NW1/4, and E1/2SW1/4;

Sec. 18, lots 1 and 6, NE1/4NW1/4, and N1/2SE1/4NW1/4.

T. 12 N., R. 2 W.,

Secs. 1 and 2;

Sec. 3, lots 1 and 2, and SE1/4NE1/4;

Sec. 11, NE1/4, NE1/4NW1/4, and NE1/4SE1/4;

Sec. 12;

Sec. 13, N1/2NE1/4, N1/2SW1/4NE1/4, N1/2SE1/4NE1/4, N1/2NW1/4, and N1/2SE1/4NW1/4;

tract F;

tract G.

The area described contains 3,264.32 acres.

2. The withdrawal extended by this Order will expire on May 12, 2042, unless as a result of a review conducted prior to the expiration date, pursuant to Section 204(f) of the Federal Land Policy and Management Act of 1976, 43 U.S.C. 1714(f), the Secretary determines that the withdrawal shall be further extended.

Robert T. Anderson,
Solicitor.

[FR Doc. 2022-10128 Filed 5-10-22; 8:45 am]

BILLING CODE 4310-JA-P